FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 26, 2008.

A. Federal Reserve Bank of Kansas City (Todd Offenbacker, Assistant Vice President) 925 Grand Avenue, Kansas City, Missouri 64198-0001:

1. Steven Craig Baggerly, individually, as co-trustee of the Max Baggerly Marital Trust and as trustee of the Employee Stock Ownership Plan for Employees of Bank of the Panhandle; the Max Baggerly Trust, all of Guymon, Oklahoma, together with Karen Ann Baggerly, Lubbock, Texas, Marc Lee Williamson and Camille Kay Williamson, both of Fredericksburg, Texas; all as a group acting in concert, to acquire control of Panhandle Bancshares, Inc., and thereby indirectly acquire control of Bank of the Panhandle, both in Guymon, Oklahoma.

Board of Governors of the Federal Reserve System, March 6, 2008.
Robert deV. Frierson,
Deputy Secretary of the Board.

[FR Doc. E8-4774 Filed 3-10-08; 8:45 am]

BILLING CODE 6210-01-S